DEPARTMENT OF DEFENSE

Office of the Secretary

[Docket ID: DOD-2019-OS-0026]

Manual for Courts-Martial; Proposed Amendments

AGENCY: Joint Service Committee on Military Justice (JSC), DoD.

ACTION: Annual review of the Manual for Courts-Martial, United States.

SUMMARY: Pursuant to the authorities found in the SUPPLEMENTARY INFORMATION section of this notice, the JSC is conducting its annual review of the Manual for Courts-Martial (MCM), United States.

The committee invites members of the public to suggest changes to the MCM. Please provide supporting rationale for any proposed changes.

DATES: Proposed changes must be received no later than May 13, 2019.

ADDRESSES: You may submit comments, identified by docket number and title, by any of the following methods:

• Federal Rulemaking Portal: http://www.regulations.gov. Follow the instructions for submitting comments.

• Mail: Department of Defense, Office of the Chief Management Officer, Directorate for Oversight and Compliance, 4800 Mark Center Drive, Mailbox #24, Suite 08D09, Alexandria, VA 22350-1700.

Instructions: All submissions received must include the agency name and docket number for this Federal Register document. The general policy for comments and other submissions from members of the public is to make these submissions available for public viewing on the internet at http://www.regulations.gov as they are received without change, including any personal identifiers or contact information.

FOR FURTHER INFORMATION CONTACT: Lieutenant Colonel Adam S. Kazin, USA, Executive Secretary, JSC, at (571) 256-8132 or via email at adam.s.kazin.mil@mail.mil. The JSC public website is located at http://jsc.defense.gov.

SUPPLEMENTARY INFORMATION: Pursuant to Executive Order 12473, “Manual for Courts-Martial, United States, 1984,” and Department of Defense Instruction 5500.17, “Role and Responsibility of the Joint Service Committee on Military Justice (JSC) (available at https://www.esd.whs.mil/Portals/54/Documents/DD/issuances/dodi/550017_5C.PDF?ver=2018-02-21-074422-370),” the JSC is conducting its annual review of the Manual for Courts-Martial (MCM), United States.

The committee invites members of the public to suggest changes to the MCM. Please provide supporting rationale for any proposed changes.

Dated: March 11, 2019.
Aaron T. Siegel,
Alternate OSD Federal Register Liaison Officer, Department of Defense.

[FR Doc. 2019-04736 Filed 3-13-19; 8:45 am]

BILLING CODE 5001-06-P